DEPARTMENT OF AGRICULTURE

Commodity Credit Corporation

Farm Service Agency

Information Collection; Representation for CCC and FSA Loan and Authorization To File a Financing Statement

AGENCY: Commodity Credit Corporation and Farm Service Agency, USDA.

ACTION: Notice; request for comments.

SUMMARY: In accordance with the Paperwork Reduction Act of 1995, the Commodity Credit Corporation (CCC) and the Farm Service Agency (FSA) are requesting comments from all interested individuals and organizations on an extension with a revision of a currently approved information collection. The form CCC-10, entitled “Representations for Commodity Credit Corporation or Farm Service Agency Loans and Authorization To File a Financing Statement and Related Documents” is used for CCC and FSA loan programs. The information collection is necessary to gather data regarding the applicant that is required on a financing statement, and to obtain the applicant's permission to file a financing statement prior to the execution of a security agreement.

DATES: We will consider comments we receive by August 8, 2014.

ADDRESSES: We invite you to submit comments on this notice. In your comments, include date, volume and page number of this issue of the Federal Register. You may submit comments by any of the following methods:

• Federal eRulemaking Portal: Go to www.regulations.gov. Follow the online instructions for submitting comments.

• Mail: DeAnn Allen, Program Manager, USDA, FSA, Stop 0512, 1400 Independence Avenue SW., Washington, DC 20250.

You may also send comments to the Desk Officer for Agriculture, Office of Information and Regulatory Affairs, Office of Management and Budget, Washington, DC 20503. Copies of the information collection may be requested by contacting DeAnn Allen at the above address.

FOR FURTHER INFORMATION CONTACT: DeAnn Allen; (202) 720-9889.

SUPPLEMENTARY INFORMATION: Title: Representations for Commodity Credit Corporation or Farm Service Agency Loans and Authorization to File a Financing Statement and Related Documents.

OMB Control Number: 0560-0215.

Expiration Date of Approval: October 31, 2014.

Type of Request: Extension with a revision.

Abstract: Form CCC-10 is necessary to: (a) Gather or verify basic data provided by a CCC or FSA loan applicant that is required on a financing statement filed by CCC or FSA to perfect a security interest in collateral used to secure a loan; and (b) obtain applicant permission to file a financing statement prior to the execution of a security agreement.

Farm Loan Programs (FLP) uses the CCC-10 when a nonapplicant third party pledges the full value of chattel security to FSA as adequate security required for a FLP loan.

Both CCC's Marketing Assistance Loan and Farm Storage Facility Loan programs also use the CCC-10, but are exempt from the provisions of the Paperwork Reduction Act as specified in section 1601(c)(2)(B) of the Agricultural Act of 2014 (Pub. L. 113-79, Title I, Subtitle F—Administration).

The formula used to calculate the total burden house is estimated average time per response (includes travel times) hours times total annual responses.

Estimated annual burden: The public reporting burden for this information collection is estimated to average 5 minutes per response. The average travel time, which is included in the total annual burden, is estimated to be 1 hour per respondent.

Respondents: Individual producers and farming entities.

Estimated Number of Respondents: 2,148.

Estimated Number of Responses per Respondent: 1.

Estimated Total Annual Response: 2,148.

Estimated Average Time per Response: 1.083 of an hour (65 minutes).

Estimated Total Annual Burden on Respondents: 2,326.

We are requesting comments on this information collection to help us to:

(1) Evaluate whether the collection of information is necessary for the proper performance of the agency, including whether the information will have practical utility;

(2) Evaluate the accuracy of the estimate of burden, including the validity of the methodology and assumptions used;

(3) Enhance the quality, utility, and clarity of the information to be collected; and

(4) Minimize the burden of the collection of information on those who are to respond, including through the use of appropriate automated, electronic, mechanical, or other technological collection techniques or other forms of information technology.

All responses to this notice, including names and addresses, when provided, will be summarized and included in the request for OMB approval. All comments will also become a matter of public record.

Dated: June 3, 2014.
Juan M. Garica,
Executive Vice President, Commodity Credit Corporation, Administrator, Farm Service Agency.

[FR Doc. 2014-13355 Filed 6-6-14; 8:45 am]

BILLING CODE 3410-05-P